SMALL BUSINESS ADMINISTRATION

[Declaration of Disaster #3459]

State of Texas; Amendment #3

In accordance with a notice received from the Federal Emergency Management Agency, dated November 20, 2002, the above numbered declaration is hereby amended to include Jim Wells County in the State of Texas as a disaster area due to damages caused by severe storms, tornadoes, and flooding occurring on October 24, 2002, and continuing through November 15, 2002.

In addition, applications for economic injury loans from small businesses located in Brooks and Duval Counties in the State of Texas may be filed until the specified date at the previously designated location. All other counties contiguous to the above named primary counties have been previously declared.

All other information remains the same, i.e., the deadline for filing applications for physical damage is January 6, 2003, and for economic injury the deadline is August 5, 2003.

(Catalog of Federal Domestic Assistance Program Nos. 59002 and 59008).
Dated: November 25, 2002.
Herbert L. Mitchell,
Associate Administrator for Disaster Assistance.

[FR Doc. 02-30448 Filed 11-29-02; 8:45 am]

BILLING CODE 8025-01-P